FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than

A. Federal Reserve Bank of Atlanta (David Tatum, Vice President) 1000 Peachtree Street, N.E., Atlanta, Georgia 30309:

1. Alston Martin Noah, Alston Martin Noah, Jr., Johns Chandler Noah, Mary Payton Noah, and Sue Drinkard Noah, all of Athens, Alabama; to collectively acquire additional voting shares of RB Bancorporation and thereby acquire shares of Reliance Bank, both of Athens, Alabama.

B. Federal Reserve Bank of Kansas City (Donna J. Ward, Assistant Vice President) 925 Grand Avenue, Kansas City, Missouri 64198-0001:

1. Jane A. Dickinson and Burton K. Dickinson, both of Kansas City, Missouri; as trustees of the Dickinson Family Stock Retention Trust Dated February 9, 1999; the Dickinson Grandchildren's Education Trust Dated February 9, 1999; the Chillicothe Properties Trust Dated July 30, 1998; to retain control of Dickinson Financial Corporation II, Kansas City, Missouri, and its subsidiaries including: Dickinson Financial Corporation and Bank Midwest, National Association, both in Kansas City, Missouri; Armed Forces Bank, National Association, Fort Leavenworth, Kansas; Armed Forces Bank of California National Association, San Diego, California; Academy Bank, National Association, Colorado Springs, Colorado; Southern Commerce Bank, National Association, Tampa, Florida; and SunBank, National Association, Phoenix, Arizona, (in organization). Jane and Burton Dickinson also are filing to become members of the Dickinson Family Group, a group acting in concert, to control the above listed organizations.

Board of Governors of the Federal Reserve System, April 6, 2007.
Jennifer J. Johnson,
Secretary of the Board.

[FR Doc. E7-6849 Filed 4-10-07; 8:45 am]

BILLING CODE 6210-01-S